NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

DATE AND TIME: Friday, July 6, 2012, 12 p.m.-1 p.m. EDT.

SUBJECT MATTER: Discussion of future planning for data policies.

STATUS: Closed.

This meeting will be held by teleconference at the National Science Board Office, National Science Foundation, 4201Wilson Blvd., Arlington, VA 22230.

UPDATES & POINT OF CONTACT: Please refer to the National Science Board Web site www.nsf.gov/nsb for information and schedule updates, or contact: Ann Ferrante, National Science Board Office, 4201Wilson Blvd., Arlington, VA 22230. Telephone: (703) 292-7000.

Ann Bushmiller,
Senior Counsel to the National Science Board.

[FR Doc. 2012-16273 Filed 6-28-12; 4:15 pm]

BILLING CODE 7555-01-P